DEPARTMENT OF COMMERCE

International Trade Administration

[A-549-502]

Circular Welded Carbon Steel Pipes and Tubes from Thailand: Court Decision Not in Harmony with Final Results of Administrative Review

AGENCY: Import Administration, International Trade Administration, Department of Commerce.

SUMMARY: On January 4, 2010, the U.S. Court for International Trade (CIT) sustained the Department of Commerce's (the Department) results of redetermination pursuant to the CIT's remand and entered final judgment in Saha Thai v. United States, Ct. 08-380, Slip Op. 09-116. Consistent with the decision of the United States Court of Appeals for the Federal Circuit (CAFC) in Timken Co. v. United States, 893 F.2d 337 (Fed. Cir. 1990) (Timken), the Department is notifying the public that the final judgment in this case is not in harmony with the Department's final results of the administrative review of the antidumping order on circular welded carbon steel pipes and tubes from Thailand covering the period March 1, 2006 through February 28, 2007. Circular Welded Carbon Steel Pipes and Tubes from Thailand: Final Results of Antidumping Duty Administrative Review, 73 FR 61019 (October 15, 2008) (Final Results).

FOR FURTHER INFORMATION CONTACT: Jacqueline Arrowsmith or Dana Mermelstein, AD/CVD Operations, Office 6, Import Administration, International Trade Administration, Department of Commerce, 14th Street and Constitution Avenue, N.W., Washington, D.C. 20230.; telephone: (202) 482-5255 OR (202) 482-1391, respectively.

SUPPLEMENTARY INFORMATION:

Background

On October 15, 2008, the Department published the final results of its administrative review of circular welded carbon steel pipes and tubes from Thailand. See Final Results. In the Final Results, after considering additional information and the arguments of both Saha Thai and Allied Tube and Conduit Corporation and Wheatland Tube Company (collectively, the petitioners), the Department granted an upward adjustment to export price in accordance with 772(c)(1) of the Tariff Act of 1930, as amended (the Act), which directs the Department to increase export price by “the amount of any import duties imposed by the country of exportation which have been rebated, or which have not been collected, by reason of the exportation of the subject merchandise to the United States.” See Section 772(c)(1) of the Act. Consistent with the Department's practice in the two most recently completed administrative reviews of this order, we calculated this upward adjustment to export price for exempted import duties using Saha Thai's actual yield loss factor rather than the Government of Thailand's (GOT) average yield loss factor. See Final Results and accompanying Issues and Decision Memorandum at Comment 4.

In Saha Thai v. United States, Ct. 08-380, Slip Op. 09-116, on October 15, 2009, the CIT remanded the Final Results, directing the Department to recalculate Saha Thai's antidumping duty margin using the GOT average yield loss factor to calculate an adjustment to export price for exempted import duties. The Department issued its final results of redetermination pursuant to the CIT's October 15, 2009 ruling. See Results of the Redetermination Pursuant to Remand, dated December 11, 2009 (found at http://ia.ita.doc.gov/remands/index.html). The Department explained that it had followed the CIT's directive and had recalculated Saha Thai's antidumping duty margin using the GOT mandated yield loss factor to calculate the upward adjustment to export price for the exempted import duties. The Department's redetermination resulted in changes to the Final Results weighted-average margin from 4.26 percent to 4.21 percent. On January 4, 2010, the CIT sustained the Department's redetermination.

Timken Notice

In its decision in Timken, 893 F. 2d at 341, the CAFC held that, pursuant to section 516A(e) of the Act, the Department must publish a notice of a court decision that is not “in harmony” with a Department determination and must suspend liquidation of entries pending a “conclusive” court decision. The CIT's January 4, 2010 decision in Saha Thai v. United States constitutes a final decision of that court that is not in harmony with the Department's Final Results. This notice is published in fulfillment of the publication requirements of Timken. Accordingly, the Department will continue the suspension of liquidation of the subject merchandise pending the expiration of the period of appeal or, if appealed, pending a final and conclusive court decision. In the event the CIT's ruling is not appealed, or if appealed, is upheld by the CAFC, the Department will instruct U.S. Customs and Border Protection to assess antidumping duties on entries of the subject merchandise during the POR from Saha Thai based on revised assessment rates calculated by the Department. The effective date of this notice is January 14, 2010, ten days from the date of the issuance of the court decision.

This notice is issued and published in accordance with section 516A(c)(1) of the Act.

Dated: January 11, 2010.
Ronald K. Lorentzen,
Deputy Assistant Secretary for Import Administration.

[FR Doc. 2010-719 Filed 1-14-10; 8:45 am]

BILLING CODE 3510-DS-S